DEPARTMENT OF HEALTH AND HUMAN SERVICES

National Institutes of Health

Center for Scientific Review; Amended Notice of Meeting

Notice is hereby given of a change in the meeting of the Center for Scientific Review Special Emphasis Panel, Small Business: Microbial (non-HIV) Diagnostics and Detection of Infectious Agents, Food and Waterborne Pathogens, and Methods in Microbial Sterilization, Disinfection and Bioremediation, March 26, 2020, 8:00 a.m. to March 27, 2020, 6:00 p.m. which was published in the Federal Register on March 03, 2020, 85 FR 12570.

The meeting location is being changed to National Institutes of Health, 6701 Rockledge Drive, Bethesda, MD. Start time has changed, March 26, 2020, 9:00 a.m. to March 27, 2020, 6:00 p.m. Meeting dates remain the same. The meeting is closed to the public.

Dated: March 11, 2020.
Ronald J. Livingston, Jr.,
Program Analyst, Office of Federal Advisory Committee Policy.

[FR Doc. 2020-05410 Filed 3-16-20; 8:45 am]

BILLING CODE 4140-01-P